FEDERAL DEPOSIT INSURANCE CORPORATION

12 CFR Part 370

Notification to Institutions Covered by the FDIC's Recordkeeping for Timely Deposit Insurance Determination Rule Regarding Amendments to the Deposit Insurance Coverage Rules

AGENCY: Federal Deposit Insurance Corporation (FDIC).

ACTION: Notification.

SUMMARY: The FDIC is publishing this notification to insured depository institutions covered by its Recordkeeping for Timely Deposit Insurance Determination rule that it has amended its deposit insurance coverage rules for certain trust accounts and mortgage servicing accounts and such amendments will take effect on April 1, 2024. The FDIC is publishing this notification to specify for covered institutions that they must prepare updates or changes to their deposit insurance calculation capabilities as a result of the amendments, and such changes must be implemented and operational on April 1, 2024, the effective date of the amendments.

DATES: January 28, 2022.

FOR FURTHER INFORMATION CONTACT: Cassandra Knighton, Section Chief, Division of Complex Institution Supervision and Resolution, (972) 761-2802, cknighton@FDIC.gov; Shane Kiernan, Counsel, Legal Division, (202) 898-8512, skiernan@fdic.gov.

SUPPLEMENTARY INFORMATION: The FDIC is providing notice to insured depository institutions covered by its rule entitled “Recordkeeping for Timely Deposit Insurance Determination,” 12 CFR part 370 (each a “covered institution” under “part 370”), that it amended its deposit insurance coverage rules for certain trust accounts and mortgage servicing accounts on January 21, 2022 (the “amendments”). The amendments take effect on April 1, 2024. The FDIC delayed the effective date of the amendments until April 1, 2024, to provide time before the amendments take effect to: Insured depository institutions and their depositors to review deposit insurance coverage and adjust their deposit account arrangements and deposit relationships, if desired; FDIC staff to reprogram the information technology infrastructure that the FDIC uses to determine deposit insurance coverage and to make payment to insured depositors and update the FDIC's deposit insurance coverage publications, including publications that provide guidance to covered institutions; and covered institutions to prepare to implement changes to recordkeeping and information technology capabilities required under part 370.

Part 370 generally requires each covered institution to implement the information technology system and recordkeeping capabilities needed to quickly calculate the amount of deposit insurance coverage available for each deposit account in the event of failure (“part 370 capabilities”). Pursuant to § 370.10(d), “[a] covered institution will not be considered to be in violation of this part as a result of a change in law that alters the availability or calculation of deposit insurance for such period as specified by the FDIC following the effective date of such change.” 12 CFR 370.10(d). The FDIC is publishing this document pursuant to § 370.10(d) to specify for covered institutions that they must prepare updates or changes to their part 370 capabilities as a result of the amendments, and such changes must be implemented and operational on April 1, 2024, the effective date of the amendments. The delayed effective date of the amendments provides covered institutions with at least 24 months following adoption to prepare the updates or changes to their part 370 capabilities. Therefore, the FDIC is not providing an additional period of time pursuant to § 370.10(d) after April 1, 2024.

Federal Deposit Insurance Corporation.
Dated at Washington, DC, on January 21, 2022.
James P. Sheesley,
Assistant Executive Secretary.

[FR Doc. 2022-01608 Filed 1-27-22; 8:45 am]

BILLING CODE 6714-01-P